DEPARTMENT OF AGRICULTURE

Forest Service

Amendment to the Coconino Forest Plan for the Flagstaff/Lake Mary Ecosystem Analysis Area—EIS; Southwestern Region, Arizona, Coconino County, Coconino National Forest

AGENCY: Forest Service, USDA.

ACTION: Notice of intent to prepare an Environmental Impact Statement.

SUMMARY: The Coconino National Forest is planning to prepare an Environmental Impact Statement on a proposal to amend the Coconino Forest Plan. This amendment provides clarification to current Forest Plan language and adds additional direction for management of lands surrounding the City of Flagstaff, the Flagstaff Area National Monuments and the Lake Mary Watershed. A Proposed Action is located on the Coconino National Forest website at http://www.fs.fed.us/r3/coconino/nepa.shtml.

DATES: Comments in response to this Notice of Intent concerning the scope of the analysis should be received in writing on or before 30 days after publication of this notice in the Federal Register.

ADDRESSES: Send written comments to USDA Forest Service, Coconino National Forest, 2323 E Greenlaw Lane, Flagstaff, AZ 86004. Electronic mail may be sent to dkill@fs.fed.us.

RESPONSIBLE OFFICIAL: The Forest Supervisor of the Coconino National Forest, Supervisor's Office, 2323 E. Greenlaw Lane, Flagstaff AZ 86004, will decide what actions are most appropriate for the Amendment to the Coconino Forest Plan for the Flagstaff/Lake Mary Ecosystem Analysis Area.

FOR FURTHER INFORMATION CONTACT: Debbie Kill or Alvin Brown, 928-526-0866, 5075 Highway 89, Flagstaff, AZ 86004, dkill@fs.fed.us or abrown@fs.fed.us

SUPPLEMENTARY INFORMATION: The Proposed Action adds an emphasis on fire risk reduction and recreation management for lands in close proximity to residential areas. There are proposed objectives for recreation settings (including recommendations for motorized versus nonmotorizied settings) based on landscape analysis and design. Recreation settings provide a framework for future site-specific planning and decision making for outfitter/guide and group uses, road management, and camping. There is new rock climbing direction proposed. There are proposed adjustments to wildlife cover and a redistribution of Mexican spotted owl habitat near residential areas. Items such as scenery, noxious weeds, land exchange, watershed, mountain meadows and riparian areas have added language for clarification and emphasis. There is proposed language that references continued cooperation and coordination with local, State, and Federal agencies. New Management Areas are delineated with additional emphasis items and direction. Management Areas were created based on unique land features, biophysical characteristics, and/or the lands relationship to adjacent communities. All proposed amendment language is in addition to all the current Forest Plan direction.

The past and proposed scoping process for this project is as follows. In May of 1999 the Ideas for change was published that described the need for considering changes and a variety of ideas and as a formal scoping document. The public responded by attending open houses, writing letters, and e-mails or attending topic-oriented meetings. Further analysis refined the scope of the FLEA analysis and the Proposed Action was published in September of 2001. The Proposed Action contains the actual replacement page language proposed for the Forest Plan. The replacement language consists of clarification, new language on topics where the Forest Plan was previously silent and management direction changes. One open house was held in September 2001 for the Proposed Action. For the Draft Environmental Impact Statement (DEIS) there is one public presentation planned in late May or June, for a joint meeting of the Coconino County Board of Supervisors and the Flagstaff City Council. Date and location will be arranged later. No additional public meetings are scheduled at this time, however, the public is welcome to request presentations of information, obtain a copy of the DEIS and write or e-mail in their comments.

Issues include disagreement with the Proposed Action related to Recreation Opportunity Settings at certain sites, and requirements for big game hiding/thermal cover in areas of fire risk concern.

Four alternatives have been developed that include a different mix of forest settings and wildlife cover requirements.

No permits or licenses are required.

This Forest Plan amendment will be referenced during project-level analysis and decision-making. Implementation of the desired condition described in the Forest Plan, including this amendment, will occur over a period of years.

The estimated date for availability of the DEIS is May 2002. The estimated date for filing the Final Environmental Impact Statement is September 2002.

Comments may be sent by electronic mail (e-mail) to dkill@fs.fed.us Please reference the FLEA EIS on the subject line. Please include your name and physical mailing address with your comments so documents pertaining to this project may be mailed to you.

The Forest Service believes, at this early stage, it is important to give reviewers notice of several court rulings related to public participation in the environmental review process. To be the most helpful, comments on the draft environmental impact statement should be as specific as possible and may address the adequacy of the statement or the merits of the alternatives discussed (see Council of Environmental Quality Regulations for implementing the procedural provisions of the National Environmental Policy Act at 40 CFR 1503.3).

In addition, Federal court decisions have established that reviewers of draft environmental impact statements must structure their participation in the environmental review of the proposal so that it is meaningful and alerts an agency to the reviewers' position and contentions. Vermont Yankee Nuclear Power Corp. v. NRDC 435 US 519, 553 (1978). Environmental objections that could have been raised at the draft stage may be waived if not raised until after completion of the final environmental impact statement. City of Angoon v. Hodel 9th Circuit, 1986 and Wisconsin Heritages, Inc. v. Harris, 490F. Supp.1334, 1338 (E.D. Wis. 1980). The reason for this is to ensure that substantive comments and objections are made available to the Forest Service at a time when it can meaningfully consider them in the final environmental impact statement.

To assist the Forest Service in identifying and considering issues and concerns on the proposed action, comments on the DEIS should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Dated: April 11, 2002.
Rodger Zanotto,
Acting Forest Supervisor.

[FR Doc. 02-9268 Filed 4-16-02; 8:45 am]

BILLING CODE 3410-11-M